ENVIRONMENTAL PROTECTION AGENCY

[ER-FRL-6662-5]

Environmental Impact Statements and Regulations; Availability of EPA Comments

Availability of EPA comments prepared pursuant to the Environmental Review Process (ERP), under section 309 of the Clean Air Act and section 102(2)(c) of the National Environmental Policy Act, as amended. Requests for copies of EPA comments can be directed to the Office of Federal Activities at 202-564-7167.

An explanation of the ratings assigned to draft environmental impact statements (EISs) was published in the Federal Register dated April 1, 2005 (70 FR 16815).

Draft EISs

EIS No. 20040549, ERP No. D-FHW-D40326-MD, Intercounty Connector (ICC) from I-270 to US-1, Funding and U.S. Army COE Section 404 Permit, Montgomery and Prince George's Counties, MD.

Summary: EPA expressed environmental objections with the Corridor 1 alternative, due to impacts to wetlands and stream habitat in forested parkland. EPA expressed environmental concerns with the Corridor 2 Alternative due to potential impacts from secondary development, natural resource and community impacts and potential impact to a nearby reservoir. Rating EO2.

EIS No. 20040600, ERP No. D-FHW-D40327-PA, Southern Beltway Transportation Project, Improvement from US-22 in Robinson Township to Interstate 79 in South Fayette Township and Cecil Township, Funding and U.S. Army COE Section 404 Permit, Washington and Allegheny Counties, PA.

Summary: EPA expressed environmental concerns due to potential impacts to surface water, wetlands, forested habitat, threatened and endangered species, and possible environmental justice areas. Rating EC2.

EIS No. 20050012, ERP No. D-IBR-K39090-CA, Central Valley Project Long-Term Water Service Contract Renewals—American River Division, Proposes to Renew Long-Term Water Service Contracts, Sacramento, Placer, and El Dorado Counties, CA.

Summary: EPA expressed concerns due to cumulative impacts and environmental tradeoffs of potential increased water diversions from the American River. Rating EC2.

EIS No. 20050024, ERP No. D-AFS-J65437-CO, Gold Camp Road Plan, Develop a Feasible Plan to Manage the Operation of Tunnel #3 and the 8.5 mile Road Segment, Pike National Forest, Pike Peak Ranger District, Colorado Springs, El Paso County, CO.

Summary: EPA expressed environmental concerns due to air quality, water quality, and wildlife habitat impacts. Watersheds in the project area are in a degraded condition, and opening the road to motorized vehicles has the potential to increase sediment loads to the watersheds. Rating EC2.

EIS No. 20050028, ERP No. DS-FHW-L40203-AK, Juneau Access Transportation Project, Improvements in the Lynn Canal/Taiya Inlet Corridor between Juneau and Haines/Skagway, Updated Information, Special-Use-Permit and COE Section 10 and 404 Permits, Tongass National Forest, Klondike Gold Rush National Historic Park, Haines State Forest, City and Borough of Juneau, Haines Borough, Cities Haines and Skagway, AK.

Summary: EPA has environmental objections with the proposed project, since there was insufficient information to demonstrate that the preferred alternative is the least environmentally damaging practicable alternative in compliance with the Clean Water Act Section 404(b)(1) Guidelines. EPA recommends that the Final EIS include a preliminary 404(b)(1) evaluation, compensatory mitigation for unavoidable wetland impacts, site specific hydrological information and analysis for bridge/culvert designs, monitoring and adaptive management, and further analysis of indirect and cumulative effects. Rating EO2.

EIS No. 20050051, ERP No. DS-AFS-F65033-IL, Kudzu Eradication, Proposal to Eradicate Known Kudzu Infestations, Updated Information, Shawnee National Forest, Application for Herbicide and Mechanical Treatment, Jackson, Alexander and Pope Counties, IL.

Summary: EPA has no objections to the use of the two selected herbicides for control of Kudzu. Rating LO.

Final EISs

EIS No. 20040469, ERP No. F-COE-L01009-ID, Emerald Creek Garnet Project, Proposal to Mine Garnet Reserves within the St. Maries River Floodplain near Fernwood, Walla Walla District, Issuance of Several Permits, Benewah and Shoshone Counties, ID.

Summary: The Final EIS responded to EPA's previous concerns.

EIS No. 20050073, ERP No. F-AFS-L65464-ID, South Bear River Range Allotment Management Plan Revisions, Continued Livestock Grazing on Ten Allotments, Caribou-Targhee National Forest, Montpelier Ranger District, Bear Lake and Franklin Counties, ID.

Summary: The Final EIS provided additional information on alternatives, however EPA continues to have concerns about water quality and recommends long term protection and restoration of streams.

EIS No. 20050029, ERP No. FS-FHW-E40183-FL, FL-23 Extension (Branan Field-Chaffee Road), Construction from FL-134 (103rd Street) to FL-8 (I-10) and FL-10 (US-90/Beaver Street), NPDES and U.S. Army COE Section 404 Permits Issuance, Clay and Duval Counties, FL.

Summary: EPA continues to have environmental concerns due to impacts to wetlands.

Dated: April 12, 2005.
Ken Mittelholtz,
Environmental Protection Specialist, Office of Federal Activities.

[FR Doc. 05-7571 Filed 4-14-05; 8:45 am]

BILLING CODE 6560-50-P